DEPARTMENT OF ENERGY

Federal Energy Regulatory Commission

[Docket Nos. RP07-184-000 Through RP07-304-000]

Unassigned Gas Docket Numbers; Notice of Unused RP Docket Number

March 23, 2007.

Take notice that Docket Numbers RP07-184-000 through RP07-304-000 were not assigned to any filing due to computer error. These docket numbers will not be assigned to any filings with the Commission.

Philis J. Posey,
Acting Secretary.

[FR Doc. E7-5772 Filed 3-28-07; 8:45 am]

BILLING CODE 6717-01-P